POSTAL SERVICE

39 CFR Part 111

New Standards to Enhance Package Visibility

AGENCY: Postal Service™.

ACTION: Proposed rule.

SUMMARY: The Postal Service is proposing to revise Mailing Standards of the United States Postal Service, Domestic Mail Manual (DMM®) to require the use of Intelligent Mail® package barcodes (IMpb) on all commercial parcels, and to require the transmission of supporting electronic documentation including piece-level address or ZIP+4® Code information effective January 2014. In January 2015 the complete destination delivery address or an 11-digit delivery point validated ZIP Code will be required in the electronic documentation.

DATES: Submit comments on or before August 1, 2013.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only, between 9 a.m. and 4 p.m., Monday through Friday by calling 1-202-268-2906 in advance. Email comments, containing the name and address of the commenter, may be sent to: MailingStandards@usps.gov, with a subject line of “Package Visibility.” Faxed comments are not accepted.

FOR FURTHER INFORMATION CONTACT: Juliaann Hess at 202-268-7663 or Kevin Gunther at 202-268-7208.

SUPPLEMENTARY INFORMATION: The Postal Service continues to enhance its operational capability to scan Intelligent Mail package barcodes (IMpb) and other extra services barcodes via automated processing equipment and Intelligent Mail scanning devices. Full implementation of the Postal Service's package strategy relies on the availability of piece-level information provided through the widespread use of IMpb.

IMpb can offer a number of benefits to mailers by providing piece-level visibility throughout USPS processing and delivery operations. Benefits of IMpb use include:

• A routing code to facilitate the processing of packages on automated sorting equipment.

• A channel-specific Application Identifier (AI) that associates the barcode to the payment method, supporting revenue assurance.

• A 3-digit service type code, which will identify the exact mail class and service combination, eliminating the need for multiple barcodes on a package.

• An option to use a 6-digit or 9-digit numeric Mailer ID (MID), to accommodate all mailers.

• The ability to nest packages to containers and sacks, increasing visibility for aggregate units as well as packages moving through the network.

• Access to tracking information at no additional charge for most products.

• Access to new products, services and enhanced features.

Mailing standards recently added to the DMM now require an IMpb on all commercial parcels, except Standard Mail® parcels, claiming presort or destination-entry prices and all parcels of any class including tracking, and all mailpieces of any shape requesting extra services. The Postal Service will now advance its package strategy by proposing new standards requiring an IMpb on all remaining commercial parcels, and requiring the transmission of supporting electronic documentation, including piece-level address information, to the USPS.

Advanced Notice

The mailing industry was first provided notice of the intent of the Postal Service to require the mandatory use of IMpb on all domestic parcels via an advanced notice of proposed rulemaking, Federal Register notice (75 FR 56922-56923) on September 17, 2010. In response to input from the mailing community, this broad requirement was narrowed to apply only to commercial parcels mailed at presort or destination-entry prices and to parcels bearing PC Postage®. On January 27, 2013, the Postal Service implemented this initial phase of its package strategy by requiring IMpb use, including use of version 1.6 of the electronic shipping services manifest, for all commercial parcels (except Standard Mail parcels) claiming presort or destination-entry pricing and all mailpieces including a trackable extra service.

On February 26, 2013, the Postal Service published a Federal Register notice (78 FR 13006-13007) in which it announced its intention to require an IMpb on all remaining commercial parcels. This notice also invited comments from the mailing industry and other interested individuals. The Postal Service received several comments in response to its advanced notice of proposed rulemaking, which are summarized later in this notice.

General IMpb Requirements

Technical and general specifications for IMpb use are provided in Publication 199, Intelligent Mail Package Barcode (IMpb) Implementation Guide for: Confirmation Services and Electronic Verification System (eVS) Mailers, and DMM 708.5.1. Mailing standards require mailings of mailpieces bearing an IMpb to:

1. Use a unique tracking barcode, prepared in accordance with DMM 708.5.1, on each mailpiece,

2. Be accompanied by a version 1.6 of the electronic Shipping Services File (or subsequent versions) including required data elements, and to

3. Include the correct destination delivery address or ZIP+4 code for each record in the Shipping Services File.

The Postal Service now proposes to require an IMpb on all commercial parcels. For the purposes of this notice, commercial parcels are defined as any item meeting the physical description of a parcel in DMM 401, or an Express Mail® or Priority Mail® piece of any shape, size, or price category entered through any commercial channel. This includes pieces with postage paid by permit imprint, postage meter, PC Postage or precanceled stamps, and would include pieces paying postage through the Official Mail Accounting System (OMAS) and franked mail. All parcels mailed at Commercial Base® or Commercial Plus® prices will also be required to bear an IMpb. However, parcels paid at the retail price and inducted through a retail transaction, Periodicals parcels, and Standard Mail Marketing parcels sent as product samples that bear a simplified address or those that use a detached address label (DAL) would not be required to bear an IMpb.

The Postal Service proposes to allow, with USPS approval, domestic Priority Mail flats that are prepared in a high-speed environment to use an Intelligent Mail barcode (IMb™) in lieu of an IMpb provided each of these pieces bear a unique IMb, that cannot be reused for 180 days, and are supported by Mail.dat or Mail.XML electronic documentation. Mailers should note that mailpieces entered under this authorization must not include any extra service, including USPS Tracking™/Delivery Confirmation. In addition, effective July 28, 2013, the Postal Service plans to include, at no additional charge, automatic insurance coverage on domestic Priority Mail pieces bearing an IMpb. Mailers should also note that Priority Mail pieces entered under this exception will not be eligible for automatic insurance coverage. The authorization to use an IMb instead of an IMpb would not be applicable for Priority Mail International™ pieces or domestic Express Mail or Express Mail International® pieces.

At a future date, the Postal Service expects to implement an exception process for Bound Printed Matter (BPM) parcels and Priority Mail that would allow mailers to use Mail.dat instead of Shipping Services File version 1.6 or higher. This exception process will be tied to the scheduled upgrades to USPS systems that will allow for this functionality. These upgrades are expected to be completed by October 2013 for Bound Printed Matter and in January 2014 for Priority Mail. Once implemented, parcel mailers using Mail.dat may use this file format to submit electronic documentation to the Postal Service to fulfill their IMpb documentation requirements. The use of Mail.dat will not be authorized when mailers ship products and services that exclusively require use of Shipping Services file version 1.6 or higher.

Although it is expected that the anticipated delay in implementation until January 26, 2014 should eliminate the need for most exceptions, the Postal Service expects to provide limited exceptions to the basic IMpb requirements. Requests for exceptions will be evaluated on a case-by-case basis. Mailers requesting an exception must provide a plan to assure compliance with standards within a defined timeframe. Beginning on January 26, 2014, any such requests must be directed to the Vice President of Sales for consideration.

Destination Delivery Addresses

The Postal Service now recognizes the need for all parcels to be accompanied by a complete destination delivery address. This information will be a critical element in future plans to implement dynamic routing strategies with USPS delivery operations. As a result, the Postal Service proposes to require mailers, effective January 25, 2015 to include the complete destination delivery address (as described in DMM 601.1.4) or an 11-digit ZIP Code (validated by the USPS delivery point validation (DPV®) system, or an approved equivalent) in their Shipping Services file, or other approved electronic documentation.

Returns

The Postal Service proposes to require a unique IMpb on all parcels using a Merchandise Return Service (MRS) label. The USPS currently provides a cloud-based application that would allow less sophisticated permit holders to generate unique IMpb-compliant MRS labels with a minimal level of technological capability and software support. This tool is expected to adequately assist MRS permit-holders and their customers in the generation of IMpb-compliant labels. Except for permit holders using MRS as part of a PC Postage-based returns solution, MRS permit holders will not generally be required to submit shipping manifests to support these mailpieces. Under these proposed standards, MRS labels would be required to use a concatenated IMpb construct that includes the ZIP+4 routing code.

The Postal Service also proposes to eliminate the option for any mailpiece meeting physical characteristics of a parcel in DMM 401 to include postage paid by Business Reply Mail® (BRM). Over time, BRM service has evolved into a product that is operationally aligned to accommodate cards, letters and flats. As a result, BRM is no longer an ideal product for use with parcel-shaped mailpieces. If these standards are adopted, BRM permit holders who routinely receive parcel-shaped BRM returns would be required to discontinue this practice and to transition to MRS or a USPS Returns product for their parcel returns.

Express Mail

The Postal Service proposes to generally require all Express Mail pieces entered through any commercial channel to be IMpb-compliant. This requirement would exclude Express Mail pieces entered as part of a retail transaction, those with postage paid through a postage meter imprint and using a Label 11-B, and those entered under an Express Mail Manifest (EMM) system with postage paid by an Express Mail Corporate Account (EMCA). However, Express Mail pieces with postage paid through a postage meter imprint and using a Label 11-B will not be eligible for Commercial Base or Commercial Plus pricing. At a future date, the Postal Service expects to transition EMM mailers to the Electronic Verification System (eVS®), including an IMpb-compliance requirement. The Postal Service is now signaling its intention to require eVS for EMM systems and anticipates publishing the applicable standards in the 2015 calendar year.

Standard Mail Parcels

If these proposed standards are adopted, the Postal Service will require all Standard Mail Marketing parcels (including those paid at nonprofit prices) and all Nonprofit Standard Mail parcels to bear an IMpb, or a unique IMb. Regular and Nonprofit Standard Mail parcels mailed as product samples under DMM 443.6.0 would also be required to bear an IMpb or a unique IMb, with the exception of those using detached address labels (DAL) and those bearing simplified addresses. The Postal Service is also offering the option to use an IMb in lieu of an IMpb for all Standard Mail parcels which are presorted and containerized in 5-digit sacks or other approved containers prepared to the 5-digit level. When the IMb option is selected, the package must bear a unique IMb that cannot be reused for 180 days. In situations where the IMb is used in lieu of the IMpb, a Mail.dat or Mail.XML file will be accepted in lieu of a Shipping Service File.

Mailers requesting USPS Tracking/Delivery Confirmation service with Standard Mail parcels would continue to be assessed the electronic fee. Mailers would also have the option of affixing an IMpb-compliant mail class only tracking barcode to their Standard Mail parcels at no charge. Under either of these IMpb options, mailers must use version 1.6 or higher of the Shipping Services File, including required data elements, and must include the destination delivery address or ZIP+4 code in the file.

Package Services

If these proposed standards are adopted, the Postal Service will require all commercial BPM, Media Mail® and Library Mail parcels to bear an IMpb. When Media Mail and Library Mail parcels are entered at retail, pay the retail price and are entered through a retail transaction the Postal Service will apply an IMpb-compliant barcode, if one is not already affixed. Mailers requesting USPS Tracking/Delivery Confirmation service for their Package Services parcels would continue to be assessed the electronic fee. Mailers would also have the option of affixing an IMpb-compliant mail class only tracking barcode to their Package Services mailpieces at no charge.

Postage Meters

If these proposed standards are adopted, the Postal Service will require all parcels bearing metered postage to bear a unique IMpb, meet the Shipping Services File requirements, and to include the correct destination delivery address or ZIP+4 code for each record in the file. To support the less sophisticated meter mailers, the Postal Service plans to continue to provide pre-printed IMpb-compliant labels to mailers who are unable to print their own labels. A special version of the IMpb label will be made available to customers who ship parcels but do not use a postage meter capable of transmitting electronic manifest and address information. Use of these preprinted USPS labels or other IMpb-compliant barcodes will be a requirement for eligibility to ship USPS parcel products.

Use of Non-IMpb Barcodes

If these proposed standards are adopted, the Postal Service plans to implement a process to allow mailers to temporarily use unique tracking barcodes, prepared in a legacy format, on parcels and mailpieces that include extra services. Any such authorization would be granted via an exception process. Mailers requesting an exception must be able to demonstrate their ability to transmit piece-level documentation to the Postal Service through a Shipping Services File and to include a destination delivery address or ZIP+4 code for each record in the file. These exceptions are intended to provide additional time, when needed, to transition to the use of IMpb. If these proposed standards are adopted, all mailers must be fully IMpb-compliant, including use version 1.6 or higher of the Shipping Services File, by January 25, 2015.

In addition, effective July 28, 2013, the Postal Service plans to include, at no additional charge, automatic insurance coverage on domestic Priority Mail pieces bearing an IMpb. Mailers should also note that Priority Mail pieces bearing barcodes prepared in the legacy format will not be eligible for automatic insurance coverage.

Electronic Documentation

If these proposed standards are adopted, mailers will be required to include information in their electronic documentation that identifies the mailing agent and mail owner (i.e. by/for mailing relationship). When mailing agents make mailings on behalf of one or more clients (mail owners) a request must be made for a unique mailer ID (MID) for each client to designate package ownership. Both eVS and non-eVS mailing agents must assign a unique MID for each client. This MID will be used exclusively for that client, for mailings with that particular mailing agent. Fields are provided in Shipping Services File version 1.6 or higher, Mail.dat and Mail.XML for this purpose. The Postal Service defines these entities as follows:

• Mail Owner: The mail owner is the business entity, organization, or individual who makes business decisions regarding the parcel or mailpiece content, directly benefits from the mailing, and ultimately pays for postage on the mailpiece directly or by way of a mailing agent.

• Mailing Agent: The mailing agent is a business entity, consolidator, organization, or individual acting on behalf of one or more mail owners by providing mailing services for which the mail owners compensate the mailing agent. A business entity, organization, or individual whose services define it as a mailing agent may also be considered a mail owner, but only for its own mail or the mail of its subsidiaries. Mailing agents include, but are not limited to parcel consolidators, printers, address list providers/managers mail preparers, postage payment providers, mailing logistics providers, mailing tracking providers, ad agencies, and mailing information managers.

Conforming Mailer Identification Numbers

If these proposed standards are adopted, all mailers using an IMpb will be required to use a conforming mailer MID. Mailers who are not currently compliant with this requirement must obtain and use a conforming MID as soon as possible and must use a conforming MID by January 26, 2014.

A MID is considered to be compliant when the following requirements are met:

• A conforming six-digit MID must begin with 0 through 8.

• A conforming nine-digit MID must begin with 9.

Questions about converting to conforming MIDs may be directed to the National Customer Support Center (NCSC) by calling 877-264-9693, and selecting option 3.

Shipping Services File

Electronic documentation requirements in support of IMpb include the use of Shipping Services file version 1.6 or higher, identifying serialization of each parcel or trackable Extra Services mailpiece supported by the file and destination delivery address information or accurate ZIP+4 code for each record in the file. Shipping Services Files must be transmitted to the Postal Service prior to the physical presentation of the mailing for acceptance. Mailers will be required to correctly populate Shipping Services electronic manifest files with the piece level detail information that describes the parcels and mailpieces being shipped. The Postal Service expects to simplify the requirements to populate data fields. All mailers will be required to use the same rules as those for eVS mailers for determining which data fields must be populated. In addition to accurate piece level information, the proper definition of the mailing by/for relationship and the use of a conforming MID, Shipping Services files include the following fields:

• Transaction ID (TID). This is a unique 12-digit number assigned to associate Shipping Services File manifests to file transmissions. The TID must also be included on the Postage Statement and must match the Shipping Services manifest file for the corresponding mailing. The TID field must follow the format of YYYYMMDD####, where YYYY is the year, MM is the month, DD is the date, and `####' is the numeric sequence number.

• Payment Account number. This is the USPS account number from which the mailing will be paid.

• Method of payment. This is the approved payment method (permit imprint, postage meter, PC Postage, OMAS, franked mail and stamps) for the mail being entered.

• Post Office of Account. This is the 5-digit ZIP Code of the Post Office issuing the permit number, meter license, or precanceled stamp, and should agree with the information on the postage statement.

Electronic Nesting Data

If these proposed standards are adopted, the Postal Service will strongly encourage, but not require, mailers to provide an electronic association between IMpb piece-level record and Intelligent Mail tray labels and/or Intelligent Mail container placards. However, the Postal Service may require these electronic associations for certain products or price categories at a future date. Technical requirements for the electronic association of parcels to containers will be provided in Publication 199.

Noncompliant Mailpieces

In response to recommendations made by a group of mailing industry and Postal Service representatives, the Postal Service is proposing to implement a process to apply a schedule of gradually increasing compliance thresholds for mailings including mailpieces without IMpb-compliant barcodes, without a compliant destination delivery address or ZIP+4 code in the electronic documentation for each mailpiece or not supported by an approved Shipping Services file (or a Shipping Services file with missing or erroneous data elements), or authorized alternative documentation. The Postal Service proposes to apply these compliance thresholds at the manifest level for PC Postage and postage meter mailings, and at the postage statement level for permit imprint or precanceled stamp mailings. A new sampling procedure for barcode evaluation is expected to be added to the current acceptance process for the purpose of evaluating compliance with these new barcode thresholds. Barcode and file compliance will be measured against the specifications defined in Publication 199. Shipping Services files will be subject to census data evaluation for file version and required elements within the file. Assessments for non-eVS packages are expected to be due at the time of mailing. eVS mailers will be assessed monthly for non-compliant mailpieces in excess of the established thresholds. For any mailing, compliance can be calculated separately for each of the three compliance categories. MRS and other returns mailpieces will be sampled for compliance under these new proposed compliance thresholds at the facility where the pieces are rated and/or prepared for shipment to the permit holder. When a mailing fails more than one compliance category, the per piece adjustment will be assessed against category yielding the highest number of noncompliant pieces. Noncompliant pieces will be assessed the fee adjustment only once, even when failing more than one compliance category. The Postal Service proposes enforcement of compliance thresholds as follows:

Compliance category | January 2014 (percent) | July 2014 (percent) | January 2015 (percent)
Unique Trackable Barcode | 98 | 99 | 100
ZIP+4 Code or Destination Delivery Address in the File | 93 | 96 | 100
Shipping Services File 1.6 or Higher, Including Required Data Elements | 95 | 98 | 100

The Postal Service also proposes to implement a per piece price adjustments for noncompliant pieces, instead of driving noncompliant pieces to retail pricing. The amount of any such piece-level price adjustment(s) or assessment(s), and the methodology of their application have not yet been determined. In accordance with the Postal Accountability and Enhancement Act, the Postal Service will file a Notice with the Postal Regulatory Commission (PRC) if it chooses to adopt this per piece price proposal. Regulatory review will take up to 45 days from the date of that filing; and the Postal Service will proceed based on the results of that review.

If these proposed standards are adopted, the Postal Service currently plans to replace its rules that disqualify IMpb-noncompliant pieces for presort or destination entry prices with a process that assesses per piece price adjustments for IMpb-noncompliant pieces. Mailer compliance with the requirement to define the by/for relationships will be deferred to a future date in calendar year 2014.

If these compliance thresholds and price adjustments are adopted, enforcement of such thresholds and price adjustments will be expected to begin on January 26, 2014.

Implementation Date

If these proposed standards are adopted, the Postal Service expects to implement the requirements described in this notice on or about January 26, 2014. In response to the comments offered in response to the February 26, 2013 Federal Register notice, the Postal Service has delayed implementation in order to provide more time for mailers to prepare for the transition. Many mailers and mail service providers have already made the changes necessary to support IMpb use for other mail classes and price categories, and for these mailers much of the significant preparation has already been completed. Therefore, the Postal Service believes that it has provided sufficient notification to the mailing industry, from the date of publication of the February 26, 2013 Federal Register notice to the proposed January 26, 2014 implementation date, to allow mailers to prepare their systems.

Hazardous, Perishable and Restricted Materials

If these proposed standards are adopted, mailers inducting parcels containing mailable hazardous material or mailable live animals will be required to include an indicator in the appropriate field of the Shipping Services File, or other authorized electronic documentation, identifying each applicable mailpiece as containing either hazardous material or live animals. MRS and other returns mailpieces containing hazardous materials will be required to bear a unique IMpb barcode, including a specific 3-digit service type code specifying the class of mail and identifying the mailpiece as containing hazardous material. The Postal Service is also developing similar identifying indicators to provide enhanced visibility of shipments containing cremated remains. The Postal Service expects to have these indicators available in the 2014 calendar year.

Certified Mail and Registered Mail Service

If these proposed standards are adopted the Postal Service plans to provide new Certified Mail® and Registered Mail™ “banner only” labels to help identify these specific products when used in an IMpb-compliant format. The Postal Service also plans to limit Certified Mail service to use with First-Class Mail® only. The Postal Services expects this limitation to simplify the Extra Service options available to mailers and also reduce the number of service type codes associated with these products. The Postal Service also expects to provide a new option for mailers to combine restricted delivery service with Signature Confirmation™ service. This new option is expected to be effective on January 26, 2014, and will be introduced as part of a separate Federal Register notice. The combination of restricted delivery service with Signature Confirmation service will provide an option for mailers to restrict delivery of Priority Mail, First-Class Package Service™, Package Services, Standard Post™ and Parcel Select® pieces without also having to purchase insurance for more than $200 to obtain this service.

Comments and USPS Responses

The Postal Service received a total of thirteen comments in response to the February 26, 2013 Federal Register notice, with some comments addressing more than a single issue. In general, commenters relate their recognition of the value that the enhanced visibility and tracking data provided by IMpb provides to mailers and the Postal Service. These comments are summarized as follows:

General Comments

Comment: One commenter asks if the use of Coding Accuracy Support System (CASS™) address matching software will be required with IMpb use.

USPS Response: If these proposed standards are adopted, the use of CASS software is not expected to be required as a condition of IMpb use, however it will be strongly encouraged. When a mailer chooses to provide a ZIP+4 code instead of an address in the shipping manifest, the mailer must ensure the ZIP+4 code is valid for each address. The Postal Service intends to implement processes to validate the accuracy of ZIP+4 code information provided in shipping manifests. CASS products are integral to many customers' business processes and the shipments they tender to USPS. Including a CASS process for mailings that use IMpb will improve deliverability, reduce waste and provide benefits similar to those associated with letter and flat mailings. When mailers use addresses instead of ZIP+4 codes, the Postal Service will validate these addresses relative to the Address Management System (AMS) database and will provide feedback to customers via Shipping Services Confirmation Error/Warning files.

Comment: A commenter asks if the IMpb requirements will extend to Media Mail and Library Mail with metered postage.

USPS Response: Yes, if these standards are adopted customers mailing Media Mail and Library Mail pieces paid with metered postage will be required to comply with the IMpb requirements. However, the Postal Service recognizes that some small businesses using postage meters will be unable to comply with all IMpb requirements, which include the use of Shipping Services File version 1.6 or higher and the inclusion of a destination delivery address or a ZIP+4 code in the file. As a result, the Postal Service plans to make preprinted IMpb-compliant barcodes available for such small volume meter customers.

Comment: A commenter asks why machinable presorted BPM parcels that receive no tracking are required to meet the same IMpb requirements as that for other parcels that receive tracking at no charge. This commenter states that presorted BPM is not a shipping service, and asks if the Postal Service is trying to standardize the requirements for all parcels.

USPS Response: The Postal Service has not contemplated the standardization of parcel mail classes with regard to content eligibility, preparation requirements, and similar characteristics. However, the benefits of IMpb, to both mailers and the Postal Service, are generally applicable to every parcel class and product. The general use of unique IMpb barcodes will allow the Postal Service to manage service and delivery performance to improve the customer experience and business outcome for all shippers, including catalog mailers. As a function of these operational improvements, the Postal Service expects the expanded use of IMpb to contribute to greater pricing stability for all parcel mailers. Specifically, the widespread use IMpb including the associated files and related address information is expected to automate and simplify USPS distribution processes, and aid in the management and predictability of workloads for all postal products. In addition, IMpb usage will allow the Postal Service to automate its data collection processes for each product and payment channel, providing for more accurate costing and pricing data.

Comment: A commenter requests that the Postal Service provide more support to help mailers understand the new IMpb requirements.

USPS Response: If these proposed standards are adopted, the Postal Service plans to host monthly webinars and provide technical assistance to assist mailers with their transition to IMpb. The Postal Service will also compile a listing of qualified vendors who can assist customers in complying with IMpb requirements.

Comment: A commenter relates that their local Post Office currently has trouble with the tracking, mailing and delivery of the commenter's parcels, and opines that the new IMpb would be more expense to mailers without enough of an improvement in quality.

USPS Response: The features of IMpb, especially the inclusion of addressing information in the file, greatly improve the ability of the Postal Service to provide excellent service while driving down costs. It is recommended that this commenter address their operational issues with their local postmaster and their district manager, Business Mail Entry. Contact information for the manager, Business Mail Entry can be obtained from the locator/lookup tool on the Rapid Information Bulletin Board (RIBBS®) at https://ribbs.usps.gov/.

Comment: Several commenters request that the Postal Service specifically define what it means by the use of the term “commercial parcel,” especially in regards to Priority Mail, Standard Mail and MRS pieces.

USPS Response: For the purposes of this notice, commercial parcels are defined as any item meeting the physical description of a parcel in DMM 401, or an Express Mail or Priority Mail piece of any shape or size, entered through any commercial channel. This includes pieces with postage paid by permit imprint, postage meter, PC Postage or precanceled stamps, and would include pieces paying postage through the Official Mail Accounting System (OMAS) and franked mail.

Comment: A commenter states that mailers using self-service shipping options require a solution to implement these new standards that do not introduce new steps or require the entry of additional information into the shipping process.

USPS Response: The Postal Service offers options, such as Click-N-Ship for Business®, that allow mailers preparing their own parcels to meet IMpb requirements. Mailers using premium shipping products such as Express Mail and Priority Mail also have access to Click-N-Ship. In addition, PC Postage and other vendors offer IMpb-compliant options for customers.

Comment: As a result of the operational process changes and significant capital investment required, a mailer's association urges the Postal Service to not require compliance with an enhanced package visibility mandate, and to make these standards optional and incented through pricing and service enhancements.

USPS Response: The Postal Service recognizes the investments required and timelines needed for mailers to prepare their systems for the barcoding, electronic documentation, and addressing information required to support IMpb. However, these investments are expected to lead to improved efficiency and consistency in postal operations, translating to better service, stable prices and an improved customer experience. Some products currently include full end-to-end tracking, including confirmation of delivery, at no charge. The Postal Service is investigating the feasibility of providing mailer access to IMpb tracking and delivery data for additional products at no charge, and offering address correction service (ACS) at a reduced price. To qualify for ACS service at a reduced price, Shipping Services file 1.7 or 2.0, including unique piece-level destination delivery address information or delivery point validated 11-digit ZIP Codes, would be required.

Comment: One commenter suggests that the Postal Service should develop its optical scanning technology to read the delivery address instead of requiring barcodes. This commenter opines that the delivery address would have greater value to the Postal Service than the ZIP+4 code.

USPS Response: The Postal Service has added scanning technology to the majority of its parcel sorters that enable this equipment to read address information and to perform sortation based on that address. However, the barcode remains critical to the maintenance of the address to package association that will uniquely identify each package throughout the processing network and delivery chain. Barcoded packages supported by electronic information are industry standards and a best practice to enable superior service while managing costs.

Retail Parcels

Comment: One commenter asks if retail-priced parcels will fall under the IMpb requirements, be required to bear a simple routing barcode, or have some other requirement placed on them. Another commenter asks if retail parcels that request extra services, such as Certified Mail® or Signature Confirmation™, will be subject to the IMpb requirements.

USPS Response: Parcels presented as part of a retail transaction currently have an IMpb-compliant barcode affixed by the retail associate. The Postal Service is also enhancing its systems to electronically capture delivery address or delivery point 11-digit ZIP Code information for pieces where the IMpb is affixed at retail. In the future, Point of Service (POS) One terminals will print IMpb-compliant extra services barcodes dynamically or use preprinted IMpb-compliant labels. Commercial mailpieces paid at retail prices, but not entered as part of a retail transaction as described above, will be required to be IMpb-compliant.

Standard Mail Parcels

Comment: Several commenters request clarification on the intention of the Postal Service with regard to Standard Mail parcels. These commenters request clarification on the categories of Standard Mail parcels that would be permitted to use an Intelligent Mail barcode (IMb) in lieu of an IMpb. Two commenters encourage the Postal Service to adopt a policy of allowing the use of IMb with a Mail.dat or Mail.XML solution for Standard Mail parcels.

USPS Response: If these standards are adopted, the Postal Service will require all Standard Mail Marketing parcels (including those paying nonprofit prices) and all Nonprofit Standard Mail parcels to bear an IMpb. Regular and Nonprofit Standard Mail Marketing parcels mailed as product samples under DMM 443.6.0 are currently required to use detached address labels (DAL) or simplified addresses, and therefore would not be required to meet IMpb standards. When mailers apply, and are granted the appropriate exception, the Postal Service would allow the use of an IMb in lieu of an IMpb on Standard Mail parcels which are presorted and containerized in 5-digit sacks or other approved containers prepared to the 5-digit level.

Electronic Verification System (eVS)

Comment: One commenter requests assurances that the standards being proposed would not affect eVS mailers, and that eVS mailers would not be required to use one barcode or the other, or to report data in one format or the other.

USPS Response: These standards are proposed to apply to all mailers shipping parcels through the Postal Service, including those who pay via eVS. If these standards are adopted, all eVS mailers will be required to apply an IMpb to each parcel, use Shipping Services File version 1.6 or higher, and include the destination delivery address or ZIP+4 code in the manifest file. The Postal Service is also proposing to require the destination delivery address or delivery point validated (DPV) 11-digit ZIP Code to be included in the file effective January 25, 2015.

Merchandise Return Service (MRS)

Comment: Two commenters request clarification regarding the proposed requirements relating to MRS. One commenter asks if MRS pieces would be subject to the proposed IMpb standards, and specifically requests MRS pieces to be excluded from these new requirements. This commenter states that the production of MRS labels, each bearing a unique IMpb, would be more costly and time consuming to mailers.

USPS Response: If these proposed standards are adopted, all parcels using a MRS label will also be required to bear a unique IMpb. The Postal Service currently provides a cloud-based application to assist MRS permit-holders and their customers in the generation of unique IMpb-compliant labels.

Implementation Schedule

Comment: Several comments responded to the Postal Service's proposal to implement these new standards on or about July 28, 2013. Two commenters state that a July 2013 implementation is both unreasonable and unrealistic in that it provides an insufficient timeframe for mailers to prepare for the new requirements. Another commenter requests the opportunity to provide input into the implementation timeline. One commenter compares the proposed implementation schedule of approximately five months to the nearly two-year lead time provided to the presort and destination-entry mailers in the previous IMpb implementation. One commenter suggests that the Postal Service establish a mailer technical advisory council (MTAC) workgroup to allow for the airing of mailers concerns prior to finalizing its requirements and implementation timeline.

USPS Response: To provide customers more time to prepare for the transition, if these standards are adopted the Postal Service will delay the implementation date to January 26, 2014. Because many mailers and mail service providers have already made the changes necessary to support IMpb use for other mail classes and price categories, it is expected that for many mailers much of the preparation has already been completed.

Electronic Nesting

Comment: Several commenters responded to the Postal Service's reference to the feasibility of electronically associating individual parcel tracking numbers with specific sacks, trays, pallets or similar containers. Three commenters relate that such a requirement could pose a significant challenge to some mailers. Two commenters state that the process should be optional, and not required for mailers who lack the resources or capability to provide such data. Another mailer's association suggests that the Postal Service consider providing options to mailers based on their operational capacity. This commenter describes these options as full nesting functionality for larger mailers, a logical/virtual nesting option where individual mailpieces could be associated to a group of possible containers, or a no-nesting option for the less sophisticated mailers. These commenters requested an opportunity to supply input into any future decision by the Postal Service to require the electronic transmission of nesting data.

USPS Response: The Postal Service does not expect to require mailers to provide nesting information as a condition of these proposed standards. In most cases, it is expected that electronic transmission of nesting data to the Postal Service relating to IMpb use will be optional. However, some products, price categories or extra services features may require the transmission of nesting data as a condition of qualification for that price or service.

Exception Process

Comment: One mailer's association commends the Postal Service for its past policy of providing exceptions to specific elements of its IMpb requirements, as needed, on a case-by-case basis. This commenter and others express their desire for this policy to continue going forward with the implementation of these proposed standards. Another commenter requests that the Postal Service provide a transition period of at least 12 months from the mandatory implementation of these proposed standards to afford mailers the opportunity to effect the changes needed to comply with the new requirements.

USPS Response: If these proposed standards are adopted, the Postal Service will continue to offer limited exceptions on a case-by-case basis when mailers have provided a plan that assures compliance with standards within a defined timeframe. It is expected that the proposed January 26, 2014 implementation date should also eliminate the need for most exceptions. After January 26, 2014, any such requests for an exception must be directed to the Vice President of Sales for consideration.

Enforcement of Standards

Comment: A mailer's association suggests that the Postal Service establish a separate rulemaking to establish compliance thresholds, penalties and other enforcement issues relating to IMpb. This commenter asks the Postal Service to remain cognizant of the impact of these proposed standards relative to the enforcement requirements for IMb full-service. A commenter asks that the Postal Service explicitly confirm that the existing waivers and extensions already approved for those IMpb standards currently in place will remain in effect. Another commenter asks what the penalty will be for mailers inducting commercial packages not complying with the proposed requirements. A commenter asks that since the Postal Service proposes that all commercial parcels must bear an IMpb, will a surcharge for noncompliant pieces still be an option.

USPS Response: If these proposed standards are adopted, the Postal Service plans to provide gradually increasing compliance thresholds for mail owners and mailing agents, applied across timeframes specified by the Postal Service. The Postal Service is also proposing to apply per piece price adjustments for noncompliant pieces, instead of the current practice of disqualifying noncompliant pieces for all but retail prices. If the use of compliance thresholds and price adjustments are agreed upon at the corporate level, enforcement of these standards relative to compliance thresholds and price adjustments are planned to begin on January 26, 2014.

Postage Meter Mailers

Comment: Two postage meter vendors state that they are in the development stage of a lower cost alternative to the shipping systems currently available to meter mailers. One provider states that this new alternative solution will not be ready by July 2013, and requests an extension for compliance of the proposed standards for meter mailers until January 2014. Another postage meter vendor requests information about the Postal Service's communication plans, and urges the Postal Service to work collaboratively with vendors in this regard.

USPS Response: The proposed January 26, 2014 implementation date provides additional time for mailers to prepare their mailing systems, as requested by this commenter. The Postal Service plans to communicate these proposed IMpb standards through the usual mailer communications channels and welcomes the opportunity to work with vendors. In the past, some vendors have been reluctant to share their customer lists. This is understandable and the Postal Service will provide standard language that vendors can use to communicate the changes and compliance dates to their customers.

Label 400/Extra Service Labels

Comment: Two commenters request clarification of the Postal Service's intent with regards to meter mailers and the use of Label 400, and other extra service labels. These commenters ask if Label 400 can be uploaded by electronic means, associated to a particular mailpiece, and if this would then allow mailers to qualify for commercial parcel prices. This commenter continues by asking if an uploaded label process would still require transmission of a destination delivery address or ZIP+4 code and a mailer ID (MID) to the Postal Service, and whether commercial prices would be available when other extra service labels are applied (e.g. Label 200, Registered Mail). This commenter asks if meter mailers may similarly apply USPS-provided Labels 11-B or 11-F to their mailpieces, upload the barcode data to the Postal Service via USPS-approved shipping manifests, and have these mailpieces qualify for commercial prices. This commenter also asks if privately printed Certified Mail labels must include the green coloration used on USPS-provided PS Forms 3800. Another commenter asks if the Postal Service intends to provide preprinted, IMpb-compliant extra service labels, such as Certified Mail labels.

USPS Response: If these proposed standards are adopted, each applicable requirement must be met to be IMpb-compliant. These requirements include the use of the IMpb barcode format, the use of Shipping Services File version 1.6 or higher, and the inclusion of the destination delivery address or ZIP+4 code in the file. In addition, the Postal Service plans to continue to provide pre-printed IMpb-compliant labels to mailers who are unable to print their own labels. A special version of the IMpb label will be made available to customers who ship parcels but do not use a postage meter capable of transmitting electronic manifest and address information.

For Certified Mail and Registered Mail, the green or red coloring will continue to be required. However, the Postal Service plans to provide new Certified Mail and Registered Mail “banner only” labels to help identify these specific products when used in an IMpb-compliant format. Also, if these standards are adopted, Certified Mail will become eligible for First-Class Mail only, which will simplify this option and reduce the number of service type codes associated with this product.

Comment Period

Note that the Postal Service has established a 21-day comment period for this proposed rule in order to assure there is sufficient time to for mailers to prepare their systems for a January 26, 2014 implementation if these proposed standards are adopted.

Although exempt from the notice and comment requirements of the Administrative Procedure Act (5 U.S.C. 553 (b), (c)) regarding proposed rulemaking by 39 U.S.C. 410 (a), the Postal Service invites public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

* * * * *

210 Express Mail

213 Prices and Eligibility

* * * * *

3.0 Basic Standards for Express Mail

* * * * *

3.2 IMpb Standards

[Revise 3.2 as follows:]

All Express Mail pieces, unless inducted through a retail transaction or a USPS self-service kiosk, must bear an Intelligent Mail package barcode (IMpb) prepared under 708.5.0.

* * * * *

220 Priority Mail

223 Prices and Eligibility

* * * * *

3.0 Basic Standards for Priority Mail

* * * * *

3.3 IMpb Standards

[Revise 3.3 as follows:]

All Priority Mail pieces (except Critical Mail pieces without an extra service) must bear an Intelligent Mail package barcode prepared under 708.5.0.

* * * * *

300 Commercial Flats

* * * * *

310 Express Mail

313 Prices and Eligibility

* * * * *

3.0 Basic Standards for Express Mail

* * * * *

3.2 IMpb Standards

[Revise 3.2 as follows:]

All Express Mail pieces, unless inducted through a retail transaction or a USPS self-service kiosk, must bear an Intelligent Mail package barcode (IMpb) prepared under 708.5.0.

* * * * *

320 Priority Mail

323 Prices and Eligibility

* * * * *

3.0 Basic Standards for Priority Mail

* * * * *

3.3 IMpb Standards

[Revise 3.3 as follows:]

All Priority Mail pieces (except Critical Mail pieces without an extra service) must bear an Intelligent Mail package barcode prepared under 708.5.0.

* * * * *

400 Commercial Parcels

* * * * *

401 Physical Standards

1.0 Physical Standards for Parcels

* * * * *

1.5 Machinable Parcels

* * * * *

1.5.2 Criteria for Lightweight Machinable Parcels

A parcel that weighs less than 6 ounces (but not less than 3.5 ounces) is machinable if it meets all of the following conditions:

* * * * *

[Delete 1.5.2b and resequence the current 1.5.2c and 2d as the new 2b and 2c.]

* * * * *

2.0 Additional Standards by Class of Mail

* * * * *

2.5 Parcel Select

2.5.1 General Standards

These standards apply to Parcel Select:

* * * * *

[Delete 2.5.1c in its entirety.]

* * * * *

410 Express Mail

413 Prices and Eligibility

* * * * *

3.0 Basic Standards for Express Mail

* * * * *

3.2 IMpb Standards

[Revise 3.2 as follows:]

All Express Mail pieces, unless inducted through a retail transaction or a USPS self-service kiosk, must bear an Intelligent Mail package barcode (IMpb) prepared under 708.5.0.

* * * * *

420 Priority Mail

423 Prices and Eligibility

* * * * *

3.0 Basic Standards for Priority Mail

* * * * *

3.2 IMpb Standards

[Revise 3.2 as follows:]

All Priority Mail pieces, unless inducted through a retail transaction or a USPS self-service kiosk, must bear an Intelligent Mail package barcode (IMpb) prepared under 708.5.0.

* * * * *

430 First-Class Package Service

433 Price and Eligibility

1.0 Prices and Fees for First-Class Package Service

* * * * *

1.4 Commercial Plus Prices

First-Class Package Service machinable parcels less than 16 ounces and Merchandise Return Service parcels are eligible for Commercial Plus prices for customers that:

* * * * *

[Delete 1.4f in its entirety.]

1.5 Surcharge

[Revise and restructure 1.5 as follows:]

Unless prepared in 5-digit/scheme containers, a surcharge applies to presorted parcels that are irregularly shaped, such as rolls, tubes, and triangles.

* * * * *

3.0 Basic Standards for First-Class Package Service Parcels

* * * * *

3.3 Additional Basic Standards

All presorted First-Class Package Service parcels must:

* * * * *

[Delete 3.3c in its entirety.]

3.4 IMpb Standards

[Revise 3.4 as follows:]

All First-Class Package Service parcels must bear an Intelligent Mail package barcode (IMpb) prepared under 708.5.0.

* * * * *

440 Standard Mail

443 Prices and Eligibility

* * * * *

3.0 Basic Standards for Standard Mail Parcels

* * * * *

3.3 Additional Basic Standards for Standard Mail

Each Standard Mail mailing is subject to these general standards:

* * * * *

[Revise 3.3g as follows:]

g. The IMpb applied to each Standard Mail parcel must be correct for the delivery address and must meet the standards in 708.5.0.

* * * * *

[Renumber the current 3.4 through 3.9 as the new 3.5 through 3.10, and add a new 3.4 as follows:]

3.4 IMpb Standards

[Revise 3.4 as follows:]

All Standard Mail parcels, except Standard Mail Marketing parcels mailed as product samples, must bear an Intelligent Mail package barcode (IMpb) prepared under 708.5.0.

* * * * *

4.0 Price Eligibility for Standard Mail

* * * * *

[Delete 4.4 in its entirety and renumber the current 4.5 as the new 4.4.]

* * * * *

450 Parcel Select

* * * * *

453 Prices and Eligibility

* * * * *

[Renumber the current section 453.3 as the new 453.4, and add a new section 453.3 as follows:]

3.0 Basic Standards for Parcel Select Parcels

3.1 Service Objectives

The USPS does not guarantee the delivery of Parcel Select mailpieces within a specified time. Parcel Select mailpieces might receive deferred service. The local Post Office can provide more information concerning delivery times within its area.

3.2 Delivery and Return Addresses

All Parcel Select mailpieces must bear a delivery address. The delivery address on each piece must include the correct ZIP Code or ZIP+4 code. Alternative addressing formats under 602.3.0 may be used. Each piece must bear the sender's return address.

3.3 IMpb Standards

All Parcel Select mailpieces must bear an Intelligent Mail package barcode (IMpb) prepared under 708.5.0.

* * * * *

4.0 Price Eligibility for Parcel Select and Parcel Select Lightweight

4.1 Destination Entry Price Eligibility

* * * * *

4.1.2 Basic Standards

For Parcel Select destination entry, pieces must meet the applicable standards in 455.4.0 and the following criteria:

* * * * *

[Delete renumbered 4.1.2f in its entirety.]

* * * * *

4.2 Parcel Select NDC and ONDC Presort Price Eligibility

[Delete the last two sentences of renumbered 4.2 in their entirety.]

4.3 Parcel Select Barcoded Nonpresort Price Eligibility

[Delete the first sentence of the introductory paragraph of renumbered 4.3.]

* * * * *

4.4 Parcel Select Lightweight

* * * * *

4.4.1 General Eligibility

Parcel Select Lightweight parcels are presorted machinable or irregular parcels. The following also applies:

* * * * *

[Delete renumbered 4.41e in its entirety, and renumber the renumbered 4.4.1f as the new renumbered 4.4.1e.]

* * * * *

460 Bound Printed Matter

463 Prices and Eligibility

* * * * *

2.0 Basic Eligibility Standards for Bound Printed Matter

* * * * *

[Add a new 2.4 as follows:]

2.4 IMpb Standards

All BPM parcels must bear an Intelligent Mail package barcode (IMpb) prepared under 708.5.0.

* * * * *

4.0 Price Eligibility for Bound Printed Matter Parcels

4.1 Price Eligibility

* * * Price categories are as follows:

* * * * *

[Revise 4.1b and 4.1c as follows:]

b. Presorted Price. The Presorted price applies to BPM prepared in a mailing of at least 300 BPM pieces, prepared and presorted as specified in 465.5.0, 705.8.0, or 705.22.0.

c. Carrier Route Price. The Carrier Route price applies to BPM prepared in a mailing of at least 300 pieces presorted to carrier routes, prepared and presorted as specified in 465.6.0, or 705.8.0.

* * * * *

470 Media Mail and Library Mail

473 Prices and Eligibility

* * * * *

[Revise the title of 2.0 as follows:]

2.0 Basic Standards for Media Mail and Library Mail Parcels

* * * * *

[Add a new 2.5 as follows:]

2.4 IMpb Standards

All Media Mail and Library Mail parcels, unless inducted through a retail transaction or a USPS self-service kiosk, must bear an Intelligent Mail package barcode (IMpb) prepared under 708.5.0.

* * * * *

6.0 Price Eligibility for Media Mail and Library Mail Parcels

* * * * *

6.2 Price Eligibility Standards

[Delete the second and third sentences of 6.2 in their entirety.]

* * * * *

6.3 Price Categories for Media Mail and Library Mail Parcels

Media Mail and Library Mail prices are based on the weight of the piece without regard to zone. The price categories and discounts are as follows:

* * * * *

[Delete 6.3c in its entirety.]

500 Additional Mailing Services

503 Extra Services

* * * * *

3.0 Certified Mail

* * * * *

3.2 Basic Information

* * * * *

3.2.2 Eligible Matter

[Revise 3.2.2 as follows:]

Only mailable matter prepaid with postage at the First-Class Mail prices may be sent as Certified Mail.

* * * * *

6.0 Return Receipt

* * * * *

6.2 Basic Information

6.2.2 Eligible Matter

Return receipt service is available for:

* * * * *

[Resequence the current 2c and 2d as the new 2d and 2e, and revise 2b and add a new 2c as follows:]

b. First-Class Mail when purchased with Certified Mail, COD, insured mail (for more than $200.00) or Registered Mail service.

c. First-Class Package Service, and Priority Mail (excluding Critical Mail) when purchased at the time of mailing with COD, insured mail (for more than $200.00), or Registered Mail service.

* * * * *

8.0 Restricted Delivery

* * * * *

8.2 Basic Information

* * * * *

8.2.2 Eligible Matter

Restricted Delivery service is available for:

[Resequence the current 2b and 2c as the new 2c and 2d, and revise 2a and add a new 2b as follows:]

a. First-Class Mail when purchased with Certified Mail, COD, insured mail (for more than $200.00) or Registered Mail service.

b. First-Class Package Service, and Priority Mail (excluding Critical Mail) when purchased at the time of mailing with COD, insured mail (for more than $200.00), or Registered Mail service.

* * * * *

505 Return Services

1.0 Business Reply Mail (BRM)

* * * * *

1.4 General Information

1.4.1 Description

[Revise the first sentence of, and add a new second sentence to, 1.4.1 as follows:]

Business Reply Mail (BRM) service enables a permit holder to receive First-Class Mail and Priority Mail back from customers and pay postage and a per piece fee for only the pieces returned. BRM cards, envelopes, self-mailers, and labels may be distributed by a BRM permit holder in any quantity for return to any Post Office in the United States and its territories and possessions, including military Post Offices overseas. Only card-, letter- and flat-sized pieces are eligible for BRM service. * * *

3.0 Merchandise Return Service

* * * * *

3.2 Basic Standards

* * * * *

[Renumber the current 3.2.5 through 3.2.13 as the new 3.2.6 through 3.2.14, and add a new 3.2.5 as follows:]

3.2.5 IMpb Standards

All MRS labels must bear a unique Intelligent Mail package barcode (IMpb) prepared under 708.5.0.

* * * * *

3.3 Additional Standards for Permit Holder

* * * * *

3.3.3 USPS Tracking/Delivery Confirmation

[Revise 3.3.3 as follows:]

USPS Tracking/Delivery Confirmation service is optional, but provided without charge for mailpieces bearing authorized MRS labels. MRS labels requesting USPS Tracking/Delivery Confirmation must meet the standards in 503.11.0. USPS Tracking/Delivery Confirmation may be combined with insurance and special handling, or both.

* * * * *

3.5.13 Format Elements

Format standards required for the merchandise return label are shown in Exhibit 3.5.13a through Exhibit 3.5.13d, and described as follows:

* * * * *

Exhibit 3.5.13a Merchandise Return Label With No Extra Services or With Insurance, Special Handling, or Pickup on Demand Service (*see 3.5.13d)

[Placeholder for revised Exhibit 3.5.13a]

* * * * *

Exhibit 3.5.13b Merchandise Return Label With Registered Mail Service

[Placeholder for revised Exhibit 3.5.13b]

* * * * *

Exhibit 3.5.13c Merchandise Return Label With Mailing Acknowledgment (*see 3.5.13d)

[Placeholder for revised Exhibit 3.5.13c]

* * * * *

Exhibit 3.5.13d Merchandise Return Label With USPS Tracking/Delivery Confirmation Service

[Placeholder for revised Exhibit 3.5.13d]

* * * * *

700 Special Standards

* * * * *

705 Advanced Preparation and Special Postage Payment Systems

* * * * *

7.0 Combining Package Services and Parcel Select Parcels for Destination Entry

7.1 Combining Parcels—DSCF and DDU Entry

7.1.1 Qualification

[Delete the last three sentences of 7.1.1 in their entirety.]

* * * * *

708 Technical Specifications

* * * * *

5.0 Standards for Package and Extra Service Barcodes

5.1 Intelligent Mail Package Barcode

* * * * *

5.1.7 Electronic File

* * * Electronic files must include the following elements:

* * * * *

[Revise 5.1.7d as follows:]

d. Version 1.6 (or subsequent versions) of the electronic shipping services manifest files including each destination delivery address or ZIP + 4 Code. Effective January 25, 2015, shipping services manifests, or other approved electronic documentation, must include the destination delivery address or delivery point validated (DPV) 11-digit ZIP Code for each record in the file.

[Delete the current 5.1.7e in its entirety and add a new 7e as follows:]

e. Electronic shipping manifest files, or approved alternative electronic documentation, must include data identifying the mailing agent and mail owner, as applicable.

* * * * *

5.2 Other Package Barcodes

5.2.1 Basic Standards for Postal Routing Barcodes

[Revise the first sentence of 5.2.1 as follows:]

A separate postal routing barcode may be used on parcels to provide routing information, when used in conjunction with an IMpb.

* * * * *

We will publish an appropriate amendment to 39 CFR part 111 to reflect these changes if our proposal is adopted.

Stanley F. Mires,
Attorney, Legal Policy & Legislative Advice.

[FR Doc. 2013-16524 Filed 7-10-13; 8:45 am]

BILLING CODE 7710-12-P